DEPARTMENT OF LABOR

Office of the Secretary

Agency Information Collection Activities; Submission for OMB Review; Comment Request; Consolidated Omnibus Budget Reconciliation Act Health Benefits Subsidy Under the American Recovery and Reinvestment Act of 2009 Evaluation

ACTION: Notice.

SUMMARY: The Department of Labor (DOL) is submitting the Office of the Assistant Secretary for Administration and Management (OASAM) sponsored information collection request (ICR) titled, “Consolidated Omnibus Budget Reconciliation Act Health Benefits Subsidy Under the American Recovery and Reinvestment Act of 2009 Evaluation,” to the Office of Management and Budget (OMB) for review and approval for use in accordance with the Paperwork Reduction Act (PRA) of 1995 (44 U.S.C. 3501 et seq.).

DATES: Submit comments on or before May 10, 2012.

ADDRESSES: A copy of this ICR with applicable supporting documentation; including a description of the likely respondents, proposed frequency of response, and estimated total burden may be obtained from the RegInfo.gov Web site, http://www.reginfo.gov/public/do/PRAMain, on the day following publication of this notice or by contacting Michel Smyth by telephone at 202-693-4129 (this is not a toll-free number) or sending an email to DOL_PRA_PUBLIC@dol.gov.

Submit comments about this request to the Office of Information and Regulatory Affairs, Attn: OMB Desk Officer for DOL-OASAM, Office of Management and Budget, Room 10235, Washington, DC 20503, Telephone: 202-395-6929/Fax: 202-395-6881 (these are not toll-free numbers), email: OIRA_submission@omb.eop.gov.

FOR FURTHER INFORMATION CONTACT: Contact Michel Smyth by telephone at 202-693-4129 (this is not a toll-free number) or by email at DOL_PRA_PUBLIC@dol.gov.

SUPPLEMENTARY INFORMATION: This ICR is to conduct an evaluation of the impact of a subsidy for health benefits under the Consolidated Omnibus Budget Reconciliation Act (COBRA) that the American Recovery and Reinvestment Act (ARRA) of 2009 provided. The subsidy was available to workers who experienced involuntary termination of a job from September 2008 to May 2010, were eligible for COBRA benefits at the time of job loss, and were not eligible for certain other health insurance options. The overall aim of the evaluation is to determine whether and how people with employer-sponsored health insurance maintained health care coverage after employment termination and whether the COBRA subsidy provided by the ARRA led to increased health care coverage. The DOL seeks OMB approval to conduct a one-time survey of randomly selected unemployment insurance recipients as part of this evaluation.

This information collection is subject to the PRA. A Federal agency generally cannot conduct or sponsor a collection of information, and the public is generally not required to respond to an information collection, unless it is approved by the OMB under the PRA and displays a currently valid OMB Control Number. In addition, notwithstanding any other provisions of law, no person shall generally be subject to penalty for failing to comply with a collection of information if the collection of information does not display a valid OMB Control Number. See 5 CFR 1320.5(a) and 1320.6. The DOL seeks OMB approval for this information collection under OMB ICR Reference Number 201109-1291-001. For additional information, see the related notice published in the Federal Register on December 12, 2011 (76 FR 77263).

Interested parties are encouraged to send comments to the OMB, Office of Information and Regulatory Affairs at the address shown in the ADDRESSES section within 30 days of publication of this notice in the Federal Register. In order to help ensure appropriate consideration, comments should reference OMB ICR Reference Number 201109-1291-001. The OMB is particularly interested in comments that:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submission of responses.

Agency: DOL-OASAM.

Title of Collection: Consolidated Omnibus Budget Reconciliation Act Health Benefits Subsidy Under the American Recovery and Reinvestment Act of 2009 Evaluation.

OMB ICR Reference Number: 201109-1291-001.

Affected Public: Individuals or Households.

Total Estimated Number of Respondents: 26,000.

Total Estimated Number of Responses: 31,800.

Total Estimated Annual Burden Hours: 5,217.

Total Estimated Annual Other Costs Burden: $0.

Dated: April 4, 2012.
Michel Smyth,
Departmental Clearance Officer.

[FR Doc. 2012-8549 Filed 4-9-12; 8:45 am]

BILLING CODE 4510-22-P